ENVIRONMENTAL PROTECTION AGENCY

[ER-FRL-6696-6]

Environmental Impact Statements; Notice of Availability

Responsible Agency: Office of Federal Activities, General Information (202) 564-7167 or http://www.epa.gov/compliance/nepa/.

Weekly receipt of Environmental Impact Statements

Filed 02/25/2008 through 02/29/2008

Pursuant to 40 CFR 1506.9.

EIS No. 20080074, Draft EIS, IBR, CA, American Basin Fish Screen and Habitat Improvement Project, Construction and Operation of one or two Positive-Barrier Fish Screen Diversion Facilities, Funding and U.S. Army COE Section 10 and 404 Permits, Natomas Mutual, Sacramento and Sutter Counties, CA, Comment Period Ends: 04/28/2008, Contact: Bradley Hubbard 916-978-5204.

EIS No. 20080075, Final EIS, AFS, WI, Fishel Vegetation and Transportation Management Project, To Implement Land Management Activities, Eagle River-Florence Ranger District, Chequamegon-Nicolet National Forest, Forest and Vilas Counties, WI, Wait Period Ends: 04/07/2008, Contact: Christine Brunner 715-479-2827.

EIS No. 20080076, Draft EIS, AFS, ID, Bussel 484 Project Area, Manage the Project Area to Achieve Desired Future Conditions for Vegetation, Fire, Fuels, Recreation, Access, Wildlife, Fisheries, Soil and Water, Idaho Panhandle National Forest, St. Joe Ranger District, Shoshone County, ID, Comment Period Ends: 04/21/2008, Contact: Cornie Hudson 208-245-2531.

EIS No. 20080077, Draft EIS, COE, CA, San Diego Creek Watershed Special Area Management Plan/Watershed Streambed Alteration Agreement Process (SAMP/WSAA Process), Protecting and Enhancing Aquatic Resource and Permitting Reasonable Economic Development, Orange County, CA, Comment Period Ends: 04/21/2008, Contact: Corice Farrar 213-452-3296.

EIS No. 20080078, Draft EIS, AFS, MT, Butte Lookout Project, Proposed Timber Harvest, Prescribed Burning, Road Work and Management Activities, Missoula Ranger District, Lola National Forest, Missoula County, MT, Comment Period Ends: 04/21/2008, Contact: Tami Paulsen 406-329-3731.

EIS No. 20080079, Draft EIS, USN, 00, Introduction of the P-8A MMA into the U.S. Navy Fleet, To Provide Facilities and Functions that Support the Homebasing of 12 P-8A Multi-Mission Maritime Aircraft (MMA) Fleet Squadrons (72 Aircraft) and one Fleet Replacement Squadron (FRS), which include the Following Installations: Naval Air Station Jacksonville, FL; Naval Air Station Whidbey Island, WA; Naval Air Station North Island, CA; Marine Corps Base HI and Kaneohe Bay, HI, Comment Period Ends: 04/25/2008, Contact: Lisa Padgett 757-836-8446.

Amended Notices

EIS No. 20070545, Draft EIS, IBR, ND, Northwest Area Water Supply Project, To Construct a Biota Water Treatment Plant, Lake Sakakawea, Missouri River Basin to Hudson Bay Basin, ND, Comment Period Ends: 03/26/2008, Contact: Alice Waters 701-221-1206.

Revision of FR Notice Published 12/28/2007: Extending Comment Period from 02/26/2008 to 03/26/2008.

EIS No. 20080061, Unknown, AFS, OR, Thorn Fire Salvage Recovery Project, Salvaging Dead and Dying Timber, Shake Table Fire Complex, Malheur National Forest, Grant County, OR, Wait Period Ends: 03/24/2008, Contact: Carole Holly 541-575-3000. Revision to FR Notice Published 02/22/2008: Correction to Contact Telephone Number.

Dated: March 4, 2008.
Robert W. Hargrove,
Director, NEPA Compliance Division, Office of Federal Activities.

[FR Doc. E8-4595 Filed 3-6-08; 8:45 am]

BILLING CODE 6560-50-P